DEPARTMENT OF ENERGY

Federal Energy Regulatory Commission

[Docket No. ER01-1684-000, et al.]

Pacific Gas and Electric Company, et al.; Electric Rate and Corporate Regulation Filings

April 5, 2001.

Take notice that the following filings have been made with the Commission:

1. Pacific Gas and Electric Company

[Docket No. ER01-1684-000]

Take notice that on April 2, 2001, Pacific Gas and Electric Company (PG&E) tendered for filing four agreements entitled Generator Special Facilities Agreement (2001 Summer Reliability Generation) (GSFA) between PG&E and the following parties: Fresno Cogeneration Partners, LP (Fresno); Stockton Sierra Cogeneration, LLC (Stockton); NEO Corporation—NEO California Power LLC, Chowchilla (NEO Chowchilla); and NEO Corporation—NEO California Power LLC, Red Bluff (NEO Red Bluff) (collectively, Parties).

The GSFAs permit PG&E to recover the ongoing costs associated with installing, owning, operating and maintaining Special Facilities necessary for the interconnection of the Parties to the PG&E transmission system. PG&E has requested certain waivers.

Copies of this filing have been served upon Fresno, Stockton, NEO Chowchilla, NEO Red Bluff, the California Independent System Operator, and the California Public Utilities Commission (CPUC).

Comment date: April 23, 2001, in accordance with Standard Paragraph E at the end of this notice.

2. Portland General Electric Company

[Docket No. ER01-1685-000]

Take notice that on April 2, 2001, Portland General Electric Company (PGE) tendered for filing a proposed Attachment K to its Open Access Transmission interconnect new generators with the PGE system or to increase the capacity of generators that are already interconnected with the system. PGE requests that the Commission waive its notice requirements to allow the procedures to become effective on March 21, 2001.

Copies of the filing were provided to the Oregon Public Utility Commission and Bonneville Power Administration.

Comment date: April 23, 2001, in accordance with Standard Paragraph E at the end of this notice.

3. Idaho Power Company

[Docket No. ER01-1687-000]

Take notice that on April 2, 2001, Idaho Power Company (IPC) tendered for filing with the Federal Energy Regulatory Commission an amendment to its Agreement for the Sale and Purchase of Firm Capacity and Energy under Idaho Power Company FERC Electric Tariff No. 6, Market Rate Power Sales Tariff, between Idaho Power Company and Truckee-Donner Public Utility District.

Comment date: April 23, 2001, in accordance with Standard Paragraph E at the end of this notice.

4. Southwest Power Pool, Inc.

[Docket No. ER01-1688-000]

Take notice that on April 2, 2001, Southwest Power Pool, Inc. (SPP) tendered for filing an executed service agreement for Firm Point-to-Point Transmission Service with Reliant Energy Services, Inc. (Transmission Customer). SPP seeks an effective date of October 1, 2001 for this service agreement.

A copy of this filing was served on the Transmission Customer.

Comment date: April 23, 2001, in accordance with Standard Paragraph E at the end of this notice.

5. Ameren Energy Marketing Company

[Docket No. ER01-1689-000]

Take notice that on April 2, 2001, Ameren Energy Marketing Company (AEM) tendered for filing the partial suspension of an existing power sales agreement between AEM and Illinois Municipal Electric Agency (IMEA).

Copies of this filing have been served on IMEA and the Illinois Commerce Commission.

Comment date: April 23, 2001, in accordance with Standard Paragraph E at the end of this notice.

6. Megawatt Marketing, LLC

[Docket No. ER01-1690-000]

Take notice that on April 2, 2001, Megawatt Marketing, LLC (Megawatt Marketing), tendered for filing acceptance of Megawatt Marketing Rate Schedule FERC No. 1; the granting of certain blanket approvals, including the authority to sell electricity at market-based rates; and the waiver of certain Commission regulations. Megawatt Marketing also requested waiver of the 60-day prior notice requirement to allow Megawatt Marketing Rate Schedule FERC No. 1 to become effective April 15, 2001.

Megawatt Marketing intends to engage in wholesale electric power and energy purchases and sales as a marketer. Megawatt Marketing is not in the business of generating or transmitting electric power. Megawatt Marketing is a Nevada limited liability company with its principal place of business in Carson City, Nevada.

Comment date: April 23, 2001, in accordance with Standard Paragraph E at the end of this notice.

7. American Electric Power Service Corporation

[Docket No. ER01-1692-000]

Take notice that on April 2, 2001, the American Electric Power Service Corporation (AEPSC), tendered for filing executed Firm and Non-Firm Point-to-Point Transmission Service Agreements for Axia Energy, LP. These agreements are pursuant to the AEP Companies' Open Access Transmission Service Tariff (OATT) that has been designated as the Operating Companies of the American Electric Power System FERC Electric Tariff Second Revised Volume No. 6. AEPSC requests waiver of notice to permit the Service Agreements to be made effective for service billed on and after March 1, 2001.

A copy of the filing was served upon the Parties and the state utility regulatory commissions of Arkansas, Indiana, Kentucky, Louisiana, Michigan, Ohio, Oklahoma, Tennessee, Texas, Virginia and West Virginia.

Comment date: April 23, 2001, in accordance with Standard Paragraph E at the end of this notice.

8. Duke Energy Corporation

[Docket No. ER01-1693-000]

Take notice that on April 2, 2000, Duke Energy Corporation (Duke) on behalf of Duke Electric Transmission, tendered for filing an original and an amended Service Agreement with Duke Power, a division of Duke, for Firm Transmission Service under Duke's Open Access Transmission Tariff.

Duke requests that the proposed Service Agreement be permitted to become effective on March 6, 2001.

Duke states that this filing is in accordance with Part 35 of the Commission's Regulations and a copy has been served on the North Carolina Utilities Commission.

Comment date: April 23, 2001, in accordance with Standard Paragraph E at the end of this notice.

9. American Electric Power Service Corporation

[Docket No. ER01-1694-000]

Take notice that on April 2, 2001, American Electric Power Service Corporation (AEPSC) submitted Notices of Succession pursuant to 18 CFR §§ 35.16 and 131.51 (2000). AEPSC is succeeding to rate schedules currently on file with the Commission by Central Power and Light Company, Public Service Company of Oklahoma, Southwestern Electric Power Company, West Texas Utilities Company (collectively, the Operating Companies), CSW Power Marketing, Inc. and CSW Energy Services, Inc. The Operating Companies, CSW Power Marketing, Inc. and CSW Energy Services, Inc. will continue to provide service under these schedules, but as subsidiaries of American Electric Power Company, Inc.

Comment date: April 23, 2001, in accordance with Standard Paragraph E at the end of this notice.

10. Cambridge Electric Light Company

[Docket No. ER01-1695-000]

Take notice that on April 2, 2001, Cambridge Electric Light Company (Cambridge) tendered for filing a Standard Form of Interconnection Agreement as a new attachment to its Open Access Transmission Tariff. Cambridge requests an effective date of May 30, 2001.

Comment date: April 23, 2001, in accordance with Standard Paragraph E at the end of this notice.

11. Hardee Power Partners Limited

[Docket No. ER01-1697-000]

Take notice that on April 2, 2001, Hardee Power Partners Limited (HPP) tendered for filing a service agreement with the City of Lake Worth, Florida (Lake Worth) under HPP's market-based sales tariff. HPP requests that the service agreement be made effective on March 5, 2001.

Copies of the filing have been served on Lake Worth and the Florida Public Service Commission.

Comment date: April 23, 2001, in accordance with Standard Paragraph E at the end of this notice.

12. Southern Company Services, Inc.

[Docket No. ER01-1698-000]

Take notice that on April 2, 2001, Southern Company Services, Inc., as agent for Savannah Electric and Power Company (Savannah Electric), tendered for filing the unexecuted Interconnection Agreement between Savannah Electric and Effingham County Power, LLC (Effingham) (the Agreement), as a service agreement under Southern Operating Companies' Open Access Transmission Tariff (FERC Electric Tariff, Fourth Revised Volume No. 5) and is designated as service agreement number 375.

The Agreement provides the general terms and conditions for the interconnection and parallel operation of Effingham's electric generating facility located near the City of Rincon, Effingham County, Georgia. The Agreement terminates forty (40) years from the effective date unless extended or terminated earlier by mutual written agreement.

Comment date: April 23, 2001, in accordance with Standard Paragraph E at the end of this notice.

13. Pilot Power Group, Inc.

[Docket No. ER01-1699-000]

Take notice that on April 2, 2001, Pilot Power Group, Inc. (Pilot) tendered for filing of Pilot Rate Schedule FERC No. 1; the granting of certain blanket approvals, including the authority to sell electricity at market-based rates; and the waiver of certain Commission regulations. In its Petition, Pilot has also requested that the Commission grant blanket authority for retail end-use customers of Pilot to sell to Pilot excess electricity not required for delivery to said customers at market-based rates pursuant to Pilot Rate Schedule FERC No. 1, and grant waiver of certain Commission regulations.

Pilot intends to engage in wholesale electric power and energy purchases and sales as a marketer. Pilot is not in the business of generating or transmitting electric power. Pilot is a privately held corporation with no affiliates.

Comment date: April 23, 2001, in accordance with Standard Paragraph E at the end of this notice.

14. Hardee Power Partners Limited

[Docket No. ER01-1700-000]

Take notice that on April 2, 2001, Hardee Power Partners Limited (HPP) tendered for filing a service agreement with Duke Energy Trading and Marketing, L.L.C. (Duke Energy) under HPP's market-based sales tariff. HPP requests that the service agreement be made effective on March 5, 2001.

Copies of the filing have been served on Duke Energy and the Florida Public Service Commission.

Comment date: April 23, 2001, in accordance with Standard Paragraph E at the end of this notice.

15. Callaway Golf Company

[Docket No. ER01-1701-000]

Take notice that on April 2, 2001, Callaway Golf Company (Callaway) tendered for filing acceptance of Callaway Rate Schedule FERC No. 1; the granting of certain blanket approvals, including the authority to sell electricity at market-based rates; and the waiver of certain Commission regulations.

Callaway intends to engage in wholesale electric power and energy purchases and sales as a marketer. Callaway is not in the business of generating or transmitting electric power. Callaway and its subsidiaries and affiliates are in the business of designing, manufacturing, marketing, distributing and selling golf equipment.

Comment date: April 23, 2001, in accordance with Standard Paragraph E at the end of this notice.

16. Duke Energy Corporation

[Docket No. ER01-1702-000]

Take notice that on April 2, 2001, Duke Energy Corporation (Duke) tendered for filing a Service Agreement with Duke Power, a division of Duke Energy Corporation for Firm Transmission Service under Duke's Open Access Transmission Tariff.

Duke requests that the proposed Service Agreement be permitted to become effective on March 26 2001.

Duke states that this filing is in accordance with Part 35 of the Commission's Regulations and a copy has been served on the North Carolina Utilities Commission.

Comment date: April 23, 2001, in accordance with Standard Paragraph E at the end of this notice.

17. Duke Energy Corporation

[Docket No. ER01-1704-000]

Take notice that on April 2, 2001, Duke Energy Corporation (Duke) tendered for filing a Service Agreement with Duke Power, a division of Duke Energy Corporation for Firm Transmission Service under Duke's Open Access Transmission Tariff.

Duke requests that the proposed Service Agreement be permitted to become effective on March 26, 2001.

Duke states that this filing is in accordance with Part 35 of the Commission's Regulations and a copy has been served on the North Carolina Utilities Commission.

Comment date: April 23, 2001, in accordance with Standard Paragraph E at the end of this notice.

18. Boston Edison Company

[Docket No. ER01-1705-000]

Take notice that on April 2, 2001, Boston Edison Company (BECo) tendered for filing a Standard Form of Interconnection Agreement as a new attachment to its Open Access Transmission Tariff. BECo requests an effective date of May 30, 2001.

Comment date: April 23, 2001, in accordance with Standard Paragraph E at the end of this notice.

19. Illinois Power Company

[Docket No. ER01-1706-000]

Take notice that on April 2, 2001, Illinois Power Company (Illinois Power), 500 South 27th Street, Decatur, Illinois 65251-2200, tendered for filing the First Amendment to an Interconnection Agreement entered into with Dynegy Midwest Generation, Inc. (DMG) and subject to Illinois Power's Open Access Transmission Tariff. Illinois Power states that the First Amendment has been entered into for the purpose of correcting one drawing attached to the Interconnection Agreement and an exhibit describing certain points shown on the drawing.

Illinois Power requests an effective date of April 1, 2001 for the First Amendment and seeks a waiver of the Commission's notice requirement. Illinois Power has served a copy of the filing on DMG.

Comment date: April 23, 2001, in accordance with Standard Paragraph E at the end of this notice.

20. Kansas City Power & Light Company

[Docket No. ER01-1707-000]

Take notice that on April 2, 2001, Kansas City Power & Light Company (KCPL) tendered for filing a Power Sales Agreement, dated February 22, 1996 between Kansas City Power & Light Company (KCPL) and the Board of Public Utilities of Springfield, Missouri (Springfield). KCPL proposes an effective date of June 1, 2001 and requests any necessary waiver of the Commission's notice requirement.

This Power Sales Agreement provides for capacity, energy and includes transmission services.

Comment date: April 23, 2001, in accordance with Standard Paragraph E at the end of this notice.

21. Carolina Power & Light Company

[Docket No. ER01-1708-000]

Take notice that on April 2, 2001, Carolina Power & Light Company (CP&L) tendered for filing an executed Service Agreement between CP&L and the following eligible buyer, South Carolina Public Service Authority. Service to this eligible buyer will be in accordance with the terms and conditions of CP&L's Market-Based Rates Tariff, FERC Electric Tariff No. 4, for sales of capacity and energy at market-based rates.

CP&L requests an effective date of June 1, 2001 for this Service Agreement.

Copies of the filing were served upon the North Carolina Utilities Commission and the South Carolina Public Service Commission.

Comment date: April 23, 2001, in accordance with Standard Paragraph E at the end of this notice.

22. Mill Run Windpower LLC

[Docket No. ER01-1710-000]

Mill Run Windpower LLC (Mill Run) petitioned the Commission on April 2, 2001, tendered for filing authority to sell electricity at market-based rates under Section 205(a) of the Federal Power Act, 16 U.S.C. 824d(a); for granting of certain blanket approvals and for the waiver of certain Commission regulations. Mill Run is a limited liability company that proposes to engage in the wholesale sale of electric power in the state of Pennsylvania.

Comment date: April 23, 2001, in accordance with Standard Paragraph E at the end of this notice.

23. Florida Power Corporation

[Docket No. ER01-1711-000]

Take notice that on April 2, 2001, Florida Power Corporation tendered for filing informational filing of Service Agreements for Short-Term Firm and Non-Firm Point-to-Point Transmission Service that were executed with South Carolina Public Service Authority (SCPSA). Service will be in accordance with the terms and conditions of SCPSA's Open Access Transmission Tariff.

Copies of the filing were served upon the Florida Public Service Commission and the South Carolina Public Service Commission.

Comment date: April 23, 2001, in accordance with Standard Paragraph E at the end of this notice.

24. Florida Power & Light Company

[Docket No. ER01-1712-000]

Take notice that on April 2, 2001, Florida Power & Light Company (FPL) tendered for filing a Construction, Indemnification and Interconnection Modification Agreement By and Among FPL, The City of Lake Worth Florida, and Lake Worth Generation, LLC (the Agreement). FPL requests an effective date of March 30, 2001 for the Agreement.

Comment date: April 23, 2001, in accordance with Standard Paragraph E at the end of this notice.

25. Florida Power Corporation

[Docket No. ER01-1713-000]

Take notice that on April 2, 2001, Florida Power Corporation (FPC) tendered for filing a Service Agreement and Transaction Agreement with Florida Power & Light Company under FPC's Cost-Based Rates Tariff, FERC Electric Tariff No. 9.

FPC is requesting an effective date of April 1, 2001 for this Agreement.

A copy of this filing was served upon the Florida Public Service Commission.

Comment date: April 23, 2001, in accordance with Standard Paragraph E at the end of this notice.

26. Monongahela Power Company

[Docket No. ER01-1716-000]

Take notice that on April 2, 2001 Monongahela Power Company (Monongahela) tendered for filing with the Commission a letter indicating its intent to continue a process of reviewing transmission/distribution facilities separation with the Ohio Public Utilities Commission. Monongahela states that, once the Ohio Public Utilities Commission has completed its review, it will submit the details of that delineation to this Commission in a supplemental filing seeking appropriate regulatory and accounting treatment.

Comment date: April 23, 2001, in accordance with Standard Paragraph E at the end of this notice.

27. Cabrillo Power I, LLC; El Segundo Power, LLC; Long Beach Generation LLC

[Docket No. ER01-1718-000]

Take notice that on April 2, 2001, Dynegy Power Marketing, Inc., acting as agent for Cabrillo Power I LLC, El Segundo Power, LLC and Long Beach Generation LLC, tendered for filing a long-term power sales agreement with the California Department of Water Resources, to be in effect as of March 6, 2001. Confidential treatment of this agreement, pursuant to 18 C.F.R. § 385.112 (2000), has been requested.

Comment date: April 23, 2001, in accordance with Standard Paragraph E at the end of this notice.

28. Delano Energy Company, Inc.; Mountainview Power Company L.L.C.; Riverside Canal Power Company, Inc.; AES Ecotek Holdings, L.L.C.

[Docket No. EC01-86-000]

Take notice that on April 3, 2001, Delano Energy Company, Inc. (Delano), Mountainview Power Company L.L.C. (Mountainview), Riverside Canal Power Company, Inc. (Riverside) and AES Ecotek Holdings, L.L.C. (AES Ecotek) filed with the Commission an application pursuant to section 203 of the Federal Power Act for authorization of a change in control over jurisdictional facilities whereby the stock of the parent company to Delano, Mountainview, and Riverside will be sold and transferred to AES Ecotek. Delano is a 48 MW biomass-fired qualifying small power production facility located in Kern County, California. Mountainview owns two 63 MW oil- or gas-fired generating units and interconnecting facilities located in San Bernadino, California. Riverside owns two 33 MW units and two 44 MW units each that are oil- or gas-fired, in Grand Terrace, California. Authorization is requested for both the sale and the purchase of the jurisdictional facilities. This application contains a request for confidential treatment by the Commission of certain sections of the Stock Purchase Agreement and the affidavit of Mr. Stephen Henderson.

Comment date: May 2, 2001, in accordance with Standard Paragraph E at the end of this notice.

29. Santa Rosa Energy LLC

[Docket No. EG01-175-000]

Take notice that on April 3, 2001, Santa Rosa Energy LLC (Applicant) with its principal office c/o Calpine Corporation—Eastern Region Office, The Pilot House, 2nd Floor, Lewis Wharf, Boston, MA 02110, filed with the Federal Energy Regulatory Commission (Commission) an application for determination of “exempt wholesale generator” status pursuant to Part 365 of the Commission's regulations.

Applicant states that it will be engaged in owning and operating a cogeneration facility (the Facility) at the Santa Rosa Energy Center consisting of one natural gas fueled combustion turbine generating unit, one separately-fired heat recovery boiler, and one extraction/condensing steam turbine generating unit with a total electrical output of approximately 255 MW. The Facility will be constructed in Santa Rosa County, at Pace, Florida. The Applicant also states that it will sell electric energy exclusively at wholesale.

Comment date: April 26, 2001, in accordance with Standard Paragraph E at the end of this notice. The Commission will limit its consideration of comments to those that concern the adequacy or accuracy of the application.

30. Mill Run Windpower, LLC

[Docket No. EG01-176-000]

Take notice that on April 3, 2001, Mill Run Windpower, LLC (Mill Run) filed with the Federal Energy Regulatory Commission an Application for Determination of Exempt Wholesale Generator Status pursuant to part 365 of the Commission's regulations and section 32 of the Public Utility Holding Company Act of 1935.

Mill Run is developing a wind-powered eligible facility with a capacity of 15 megawatts, powered by approximately ten (10) wind turbine generators, which will be located in Fayette County, Pennsylvania.

Comment date: April 26, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-9024 Filed 4-11-01; 8:45 am]

BILLING CODE 6717-01-P